DEPARTMENT OF EDUCATION

Investing in Innovation Fund

Catalog of Federal Domestic Assistance (CFDA) Numbers: 84.396A (Scale-up grants), 84.396B (Validation grants), and 84.396C (Development grants).

AGENCY: Office of Innovation and Improvement, Department of Education.

ACTION: Notice; Extension of the application deadline date for the Investing in Innovation Fund.

SUMMARY: The Assistant Deputy Secretary for Innovation and Improvement extends, for certain prospective eligible applicants described elsewhere in this notice, the deadline date for transmittal of applications for new awards for fiscal year (FY) 2010 under the Investing in Innovation Fund. The Assistant Deputy Secretary takes this action to allow more time for the preparation and submission of applications by prospective eligible applicants affected by the severe storms, flooding, straight-line winds, and tornadoes beginning on April 30, 2010, and continuing, in Tennessee. The extension of the application deadline date for this competition is intended to help affected eligible applicants compete fairly with other eligible applicants under this competition.

DATES: The extended deadline for transmitting applications under the Investing in Innovation Fund is listed in the chart entitled “List of Affected Programs” in the SUPPLEMENTARY INFORMATION section of this notice.

ADDRESSES: The address and telephone number for obtaining applications for or information about the Investing in Innovation Fund is in the notice inviting applications for this program. We have provided the date and Federal Register citation of the notice inviting applications for this program in the chart entitled “List of Affected Programs” in the SUPPLEMENTARY INFORMATION section of this notice.

If you use a telecommunications device for the deaf (TDD), call the Federal Relay Service (FRS), toll free, at 1-800-877-8339.

Individuals with disabilities can obtain this document in an accessible format (e.g., braille, large print, audiotape, or computer diskette) on request to the contact listed in the notice inviting applications for this program.

If you want to transmit a recommendation or comment under Executive Order 12372, you can find the most recent list and addresses of individual Single Points of Contact (SPOCs) on the Web site of the Office of Management and Budget at the following address: http://www.whitehouse.gov/omb/grants_spoc/.

You can also find the list of SPOCs in the appendix to the Forecast of Funding Opportunities under the Department of Education Discretionary Grant Programs for Fiscal Year (FY) 2010. This is available on the Internet at: http://www2.ed.gov/fund/landing.jhtml.

SUPPLEMENTARY INFORMATION:

Eligibility: The extension of the application deadline date in this notice applies to eligible applicants under the Investing in Innovation Fund that are located in a Federally-declared disaster area, as determined by the Federal Emergency Management Agency (FEMA) (see http://www.fema.gov/news/disasters.fema), and adversely affected by the severe storms, flooding, straight-line winds, and tornadoes beginning on April 30, 2010, and continuing, in Tennessee.

Under section 14007(a)(1) of the American Recovery and Reinvestment Act of 2009 (Pub. L. 111-5), an eligible applicant for the Investing in Innovation Fund is (a) a local educational agency (LEA) or (b) a partnership between a nonprofit organization and (1) one or more LEAs or (2) a consortium of schools. In the case of an eligible applicant that is a partnership, the extension of the application deadline date applies if any of the entities required to be part of the partnership (i.e., a nonprofit organization, an LEA, or a consortium of schools) are located in a Federally-declared disaster area, as determined by FEMA, and adversely affected by the severe storms, flooding, straight-line winds, and tornadoes in Tennessee.

An eligible applicant submitting an application on the Extended Deadline must provide a certification in its application that it meets the criteria for doing so and be prepared to provide appropriate supporting documentation, if requested. If such an eligible applicant is submitting its application electronically, the submission of the application serves as the eligible applicant's attestation that it meets the criteria for submitting an application on the Extended Deadline.

The following is information about the competition covered by this notice:

List of Affected Programs
CFDA No. and name | Publication date and Federal Register citation | Original deadline for transmittal of applications | Extended deadline for transmittal of applications | Original deadline for inter-governmental review | Extended deadline for inter-governmental review
84.396A, B, and C: Investing in Innovation Fund (Scale-up, Validation, and Development grants) | 3/12/2010 (75 FR 12072) | 5/12/2010 | 5/19/2010 | 7/12/2010 | 7/19/2010

Electronic Access to This Document

You may view this document, as well as all other Department of Education documents published in the Federal Register, in text or Adobe Portable Document Format (PDF) on the Internet at the following site: http://www.ed.gov/news/fedregister/index.html. To use PDF you must have Adobe Acrobat Reader, which is available free at this site.

Note: The official version of this document is the document published in the Federal Register. Free Internet access to the official edition of the Federal Register and the Code of Federal Regulations is available on GPO Access at: www.gpoaccess.gov/nara/index.html.

Dated: May 10, 2010.
James H. Shelton III,
Assistant Deputy Secretary For Innovation and Improvement.

[FR Doc. 2010-11451 Filed 5-11-10; 8:45 am]

BILLING CODE 4000-01-P